ENVIRONMENTAL PROTECTION AGENCY

[FRL-7476-1]

Public Water Supply Supervision Program Revision for the State of New York

AGENCY: Environmental Protection Agency.

ACTION: Notice of tentative approval and solicitation of request for a public hearing.

SUMMARY: Notice is hereby given that the United States Environmental Protection Agency (EPA) has determined to approve an application by the State of New York to revise its Public Water Supply Supervision Primacy Program to incorporate regulations no less stringent than the EPA's National Primary Drinking Water Regulations (NPDWR) for the following: Final Rule (Primacy Revisions), promulgated by EPA on April 28, 1998 (63 FR 23362), defining a public water system and Consumer Confidence Reports; Final Rule, promulgated by EPA on August 19, 1998 (63 FR 44512), along with 4 separate Technical Corrections to the Consumer Confidence Reports, promulgated as follows: May 4, 2000 (65 FR 25981), December 16, 1998 (63 FR 69475 and 63 FR 69516), June 29, 1999 (64 FR 34732) and September 14, 1999 (64 FR 49671). The application demonstrates that New York State has adopted drinking water regulations which satisfy the NPDWRs for the above. The USEPA has determined that New York State's regulations are no less stringent than the corresponding Federal Regulations and that New York State continues to meet all requirements for primary enforcement responsibility as specified in 40 CFR 142.10.

DATES: This determination to approve New York State's primacy program revision application is made pursuant to 40 CFR 142.12(d)(3). It shall become final and effective May 5, 2003 unless (1) a timely and appropriate request for a public hearing is received or (2) the Regional Administrator elects to hold a public hearing on her own motion. Any interested person, other than Federal Agencies, may request a public hearing. A request for a public hearing must be submitted to the Regional Administrator at the address shown below by May 5, 2003. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on her own motion, this determination shall become final and effective May 5, 2003.

Any request for a public hearing shall include the following information: (1) Name, address and telephone number of the individual organization or other entity requesting a hearing; (2) a brief statement of the requesting person's interest in the Regional Administrator's determination and a brief statement on information that the requesting person intends to submit at such hearing; (3) the signature of the individual making the requests or, if the request is made on behalf of an organization or other entity, the signature of a responsible official of the organization or other entity.

ADDRESSES: Requests for Public Hearing shall be addressed to: Regional Administrator, U.S. Environmental Protection Agency—Region 2, 290 Broadway, New York, New York 10007-1866.

All documents relating to this determination are available for inspection between the hours of 9 a.m. and 4:30 p.m., Monday through Friday, at the following offices: Bureau of Public Water Supply Protection, New York State Department of Health Flanigan Square, 547 River Street, Troy, New York 12180-2216.

U.S. Environmental Protection Agency—Region 2, 24th Floor Drinking Water Section, 290 Broadway, New York, New York 10007-1866.

FOR FURTHER INFORMATION CONTACT: Michael J. Lowy, Drinking Water Section, U.S. Environmental Protection Agency—Region 2, (212) 637-3830.

Authority: (Section 1413 of the Safe Drinking Water Act, as amended, 40 U.S.C. 300g-2, and 40 CFR 142.10, 142.12(d) and 142.13).

Dated: March 24, 2003.
Jane M. Kenny,
Regional Administrator, Region 2.

[FR Doc. 03-8155 Filed 4-3-03; 8:45 am]

BILLING CODE 6560-50-P